DEPARTMENT OF DEFENSE

Meeting of the Department of Defense Military Family Readiness Council (MFRC); Notice of Cancellation

AGENCY: Office of the Under Secretary of Defense for Personnel and Readiness, DoD.

ACTION: Notice of cancellation.

SUMMARY: On May 23, 2011 (76 FR 29727), the Department of Defense Military Family Readiness Council (MFRC) gave notice of a meeting to be held on June 13, 2011, from 2 p.m. to 4 p.m. at the Pentagon Conference Center B6. Pursuant to Section 10(a), Public Law 92-463, as amended, notice is hereby given that this meeting has been cancelled and a subsequent meeting will be scheduled in September 2011. The purpose of the Council meeting is to review the military family programs which will be the focus for the Council for next year, review the status of warrior care, and address selected concerns of military family organizations.

The June 13, 2011 meeting is cancelled due to non-conformance of the members to hold a quorum.

FOR FURTHER INFORMATION CONTACT: Ms. Melody McDonald or Ms. Betsy Graham, Office of the Deputy Under Secretary (Military Community & Family Policy), 4000 Defense Pentagon, Room 2E319, Washington, DC 20301-4000. Telephones (571) 256-1738; (703) 697-9283 and/or e-mail: FamilyReadinessCouncil@osd.mil.

Dated: May 27, 2011.
Aaron Siegel,
Alternate OSD Federal Register Liaison, Department of Defense.

[FR Doc. 2011-13628 Filed 6-1-11; 8:45 am]

BILLING CODE 5001-06-P